DEPARTMENT OF THE TREASURY

Internal Revenue Service

26 CFR Part 25

[TD 8886]

RIN 1545-AX07

Use of Actuarial Tables in Valuing Annuities, Interests for Life or Terms of Years, and Remainder or Reversionary Interests

Correction

In the correction of rule document 00-12896 on page 39470 in the issue of Monday, June 26, 2000, make the following correction:

§25.2512-5 [Corrected]

On page 39470, in the third column, in §25.2512-5, in the second line, “§25.2512-5(d)(2)(C)(v)(A) Example” should read “§25.2512-5(d)(2)(v)(A) Example ”.

[FR Doc. C0-12986 Filed 8-25-00; 8:45 am]

BILLING CODE 1505-01-D